DEPARTMENT OF THE INTERIOR

National Park Service

[NPS-WASO-NAGPRA- NPS0026041; PPWOCRADN0-PCU00RP14.R50000]

Notice of Inventory Completion: Anniston Museum of Natural History, Anniston, AL

AGENCY: National Park Service, Interior.

ACTION: Notice.

SUMMARY: The Anniston Museum of Natural History has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Anniston Museum of Natural History. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Anniston Museum of Natural History at the address in this notice by September 10, 2018.

ADDRESSES: Daniel D. Spaulding, Anniston Museum of Natural History, 800 Museum Drive, Anniston, AL 36206, telephone (256) 237-6766, email dspaulding@annistonmuseum.org.

SUPPLEMENTARY INFORMATION: Notice is here given in accordance with the Native American Graves Protection and Repatriation Act (NAGPRA), 25 U.S.C. 3003, of the completion of an inventory of human remains and associated funerary objects under the control of the Anniston Museum of Natural History, Anniston, AL. The human remains and associated funerary objects were removed from Moundville, Tuscaloosa County, AL.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by the Anniston Museum of Natural History professional staff in consultation with representatives of the Cherokee Nation; Eastern Band of Cherokee Indians; The Choctaw Nation of Oklahoma; The Muscogee (Creek) Nation; and United Keetoowah Band of Cherokee Indians in Oklahoma.

History and Description of the Remains

In 1933-1937, human remains representing, at minimum, two individuals were removed from Moundville in Tuscaloosa County, AL. These human remains and funerary objects were removed by Philip James Fitzgerald, an excavator with the Civilian Conservation Corps, during the excavation of the Moundville site. Upon Fitzgerald's death, the human remains and funerary objects were transferred to his daughter, Phyllis Fitzgerald Richardson. In May 1990, Mrs. Richardson donated the human remains and funerary objects to the Anniston Museum of Natural History. The human remains include one human skull with mandible, four neck vertebrae, and one human molar tooth. The human remains have been dated to the Moundville Period (ca. A.D. 1200-1500). No genders are known. No known individuals were identified. The 10 associated funerary objects are one incised pottery jar, one incised pottery bowl, four game stones of varying size and stone type, one unperforated, oblong stone pendant, one stone projectile point, one perforated bone awl, and one unperforated bone awl.

Determinations Made by the Anniston Museum of Natural History

Officials of the Anniston Museum of Natural History have determined that:

• Pursuant to 25 U.S.C. 3001(9), the human remains described in this notice are Native American based on their being excavated from a known Native American burial site and dated to the time period during which the site is known to have been occupied by Native Americans.

• Pursuant to 25 U.S.C. 3001(9), the human remains described in this notice represent the physical remains of two individuals of Native American ancestry.

• Pursuant to 25 U.S.C. 3001(3)(A), the 10 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of The Choctaw Nation of Oklahoma and The Muscogee (Creek) Nation.

• Treaties, Acts of Congress, or Executive Orders, indicate that the land from which the Native American human remains and associated funerary objects were removed is the aboriginal land of The Choctaw Nation of Oklahoma and The Muscogee (Creek) Nation.

• Pursuant to 43 CFR 10.11(c)(1), the disposition of the human remains and associated funerary objects may be to The Choctaw Nation of Oklahoma and The Muscogee (Creek) Nation.

Additional Requestors and Disposition

Representatives of any Indian Tribe or Native Hawaiian organization not identified in this notice that wish to request transfer of control of these human remains and associated funerary objects should submit a written request with information in support of the request to Daniel D. Spaulding, Anniston Museum of Natural History, 800 Museum Drive, Anniston, AL 36206, telephone (256) 237-6766, email dspaulding@annistonmuseum.org, by September 10, 2018. After that date, if no additional requestors have come forward, transfer of control of the human remains and associated funerary objects to The Choctaw Nation of Oklahoma and The Muscogee (Creek) Nation may proceed.

The Anniston Museum of Natural History is responsible for notifying the Cherokee Nation; Eastern Band of Cherokee Indians; The Choctaw Nation of Oklahoma; The Muscogee (Creek) Nation; and United Keetoowah Band of Cherokee Indians in Oklahoma that this notice has been published.

Dated: July 13, 2018.
Melanie O'Brien,
Manager, National NAGPRA Program.

[FR Doc. 2018-17214 Filed 8-9-18; 8:45 am]

BILLING CODE 4312-52-P